DEPARTMENT OF STATE

[Public Notice: 12821]

Notice of Public Meeting in Preparation for International Maritime Organization C 136

The Department of State will conduct a public meeting at 10:30 a.m. on Wednesday, October 29, 2025, both in-person at Coast Guard Headquarters in Washington, DC, and via teleconference through Microsoft Teams. The primary purpose of the meeting is to prepare for the International Maritime Organization's (IMO) 136th Session of the Council (C 136) to be held at IMO Headquarters in London, United Kingdom on Thursday, December 04, 2025.

Members of the public may participate up to the capacity of the teleconference line, which can handle 500 participants or up to the seating capacity of the room if attending in-person. The meeting location will be the United States Coast Guard Headquarters, and the teleconference line will be provided to those who RSVP. To RSVP, participants should contact the meeting coordinator, LCDR Emily Sysko, by email at LCDR Emily.T.Sysko@uscg.mil. LCDR Sysko will provide access information for in-person and virtual attendance.

The agenda items to be considered at C 136 include:

—Adoption of the agenda;

—Election of the Chair and the Vice-Chair;

—Place, date and duration of the next session of the Council (C 137) and substantive items for inclusion in the provisional agendas for the next two sessions of the Council C 137 and C 138);

—Supplementary agenda items;

Please note: The IMO may, on short notice, adjust the C 136 agenda to accommodate the constraints associated with the virtual meeting format. Although no changes to the agenda are anticipated, if any are necessary, they will be provided to those who RSVP.

Those who plan to participate may contact the meeting coordinator, LCDR Emily Sysko, by email at Emily.T.Sysko@uscg.mil or by phone at 202-372-1376 or in writing at 2703 Martin Luther King Jr. Ave. SE, ATTN: LCDR Emily Sysko, 2703 Martin Luther King Jr. Ave. SE, Stop 7509, Washington, DC 20593-7509, by October 15, 2025. Members of the public needing reasonable accommodation should advise LCDR Emily Sysko no later than October 15, 2025. Requests made after that date will be considered but might not be possible to fulfill.

Additional information regarding this and other IMO public meetings may be found at: https://www.dco.uscg.mil/IMO.

(Authority: 22 U.S.C. 2656 and 5 U.S.C. 552.)

Emily C. Miletello,
Coast Guard Liaison Officer, Office of Ocean and Polar Affairs, Department of State.

[FR Doc. 2025-17432 Filed 9-9-25; 8:45 am]

BILLING CODE 4710-09-P